CONSUMER PRODUCT SAFETY COMMISSION

[Docket No. CPSC-2010-0112]

Agency Information Collection Activities; Extension of Collection; Contests, Challenges, and Awards

AGENCY: Consumer Product Safety Commission.

ACTION: Notice of information collection; request for comment.

SUMMARY: As required by the Paperwork Reduction Act of 1995, the Consumer Product Safety Commission (CPSC or Commission) announces that the Commission has submitted to the Office of Management and Budget (OMB) a request for extension of approval of a generic collection of information for CPSC-sponsored contests, challenges, and awards. OMB previously approved the collection of information under Control Number 3041-0151. OMB's most recent extension of approval will expire on January 31, 2024. On November 15, 2023, CPSC published a notice in the Federal Register to announce the agency's intention to seek extension of approval of the collection of information. The Commission received no comments. Therefore, by publication of this notice, the Commission announces that CPSC has submitted to the OMB a request for extension of approval of that collection of information.

DATES: Submit comments on the collection of information by February 23, 2024.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2010-0112.

FOR FURTHER INFORMATION CONTACT: Cynthia Gillham, Consumer Product Safety Commission, 4330 East West Highway, Bethesda, MD 20814; (301) 504-7791, or by email to: pra@cpsc.gov.

SUPPLEMENTARY INFORMATION: CPSC seeks to extend the following currently approved generic collection of information:

Title: Contests, Challenges, and Awards.

OMB Number: 3041-0151.

Type of Review: Extension of generic collection.

Frequency of Response: On occasion.

Affected Public: Contestants, award nominees, award nominators.

Estimated Number of Respondents: We estimate that there will be 500 contest or award participants each year. In addition, 20 participants may be required to provide additional information upon selection.

Estimated Time per Response: The estimated time to complete a contest or award submission is five hours per participant. In addition, the 20 participants expected to provide additional information upon selection will require approximately two additional hours.

Total Estimated Annual Burden: CPSC estimates that there will be 500 participants who each require five hours to complete their submissions, and that 20 participants will be asked to provide additional information that will take two hours to complete. As a result, CPSC estimates that the total annual burden of this collection is 2,540 hours. The annualized cost to respondents for the information collection is approximately $109,880 (2,540 hours × $43.26/hour), as estimated from total compensation data available from the U.S. Bureau of Labor Statistics.¹

¹ Total hourly compensation for all civilian workers is estimated by the U.S. Bureau of Labor Statistics to be $43.26: Employer Costs for Employee Compensation, June 2023, Table 1, (https://www.bls.gov/news.release/archives/ecec_09122023.pdf).

General Description of Collection: The Commission establishes contests, challenges, and awards to increase the public's knowledge and awareness of safety hazards. The Commission also recognizes through awards certain individuals, firms, and organizations that work to address issues related to consumer product safety. The information to be collected from contestants and award nominees or nominators includes contact and background information necessary to conduct a contest or award program. Limited background or biographical information similar to data found on a resume, such as a nominee's education and work experience, may be requested for some contests or awards. Additionally, substantive entries such as essays, posters, drawings, or videos may be requested for contestants and award nominees.

Alberta E. Mills,
Secretary, Consumer Product Safety Commission.

[FR Doc. 2024-01370 Filed 1-23-24; 8:45 am]

BILLING CODE 6355-01-P